NUCLEAR REGULATORY COMMISSION

[NRC-2022-0069]

Information Collection: Physical Protection of Category 1 and Category 2 Quantities of Radioactive Material

AGENCY: Nuclear Regulatory Commission.

ACTION: Notice of submission to the Office of Management and Budget; request for comment.

SUMMARY: The U.S. Nuclear Regulatory Commission (NRC) has recently submitted a request for renewal of an existing collection of information to the Office of Management and Budget (OMB) for review. The information collection is entitled, “Physical Protection of Category 1 and Category 2 Quantities of Radioactive Material.”

DATES: Submit comments by December 19, 2022. Comments received after this date will be considered if it is practical to do so, but the Commission is able to ensure consideration only for comments received on or before this date.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: David C. Cullison, NRC Clearance Officer, U.S. Nuclear Regulatory Commission, Washington, DC 20555-0001; telephone: 301-415-2084; email: Infocollects.Resource@nrc.gov.

SUPPLEMENTARY INFORMATION:

I. Obtaining Information and Submitting Comments

A. Obtaining Information

Please refer to Docket ID NRC-2022-0069 when contacting the NRC about the availability of information for this action. You may obtain publicly available information related to this action by any of the following methods:

• Federal Rulemaking Website: Go to https://www.regulations.gov and search for Docket ID NRC-2022-0069.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. A copy of the collection of information and related instructions may be obtained without charge by accessing ADAMS Accession ML22136A264. The supporting statement and burden spreadsheet are available in ADAMS under Accession No. ML22291A090 and ML22136A213.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

• NRC's Clearance Officer: A copy of the collection of information and related instructions may be obtained without charge by contacting the NRC's Clearance Officer, David C. Cullison, Office of the Chief Information Officer, U.S. Nuclear Regulatory Commission, Washington, DC 20555-0001; telephone: 301-415-2084; email: Infocollects.Resource@nrc.gov.

B. Submitting Comments

Written comments and recommendations for the proposed information collection should be sent within 30 days of publication of this notice to https://www.reginfo.gov/public/do/PRAMain. Find this particular information collection by selecting “Currently under Review—Open for Public Comments” or by using the search function.

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a request for renewal of an existing collection of information to OMB for review entitled, “10 CFR Part 37, Physical Protection of Category 1 and Category 2 Quantities of Radioactive Material.” The NRC hereby informs potential respondents that an agency may not conduct or sponsor, and that a person is not required to respond to, a collection of information unless it displays a currently valid OMB control number.

The NRC published a Federal Register notice with a 60-day comment period on this information collection on August 10, 2022, 87 FR 48697.

1. The title of the information collection: 10 CFR Part 37, “Physical Protection of Category 1 and Category 2 Quantities of Radioactive Material”.

2. OMB approval number: 3150-0214.

3. Type of submission: Extension.

4. The form number, if applicable: NRC Form 755, “Advance Notification to the NRC of Shipments of Category 1 Quantities of Radioactive Material”.

5. How often the collection is required or requested: One time for initial compliance notifications and fingerprints for the reviewing officials; and as needed for implementation notifications, event notifications, notifications of shipments of radioactive material, and fingerprinting of new employees.

6. Who will be required or asked to respond: Licensees that are authorized to possess and use category 1 or category 2 quantities of radioactive material.

7. The estimated number of annual responses: 101,479 responses (4,704 Reporting + 1,400 Recordkeeping + 95,375 Third-Party Disclosure).

8. The estimated number of annual respondents: 5,600 respondents (1,140 Agreement State Licensees + 260 NRC licensees + 4,200 individuals making personal history disclosures under 37.23(d)).

9. The estimated number of hours needed annually to comply with the information collection requirement or request: 74,043 hours (1,557 reporting + 23,989 recordkeeping + 48,497 third-party disclosure).

10. Abstract: Part 37 of title 10 of the Code of Federal Regulations (10 CFR), contains security requirements for the use of category 1 and category 2 quantities of radioactive material. Licensees are required to: (1) Develop procedures for the implementation of the security provisions; (2) develop a security plan that describes how security is being implemented; (3) implement security measures for the protection of the radioactive material; (4) conduct training on the procedures and security plan; (5) conduct background investigations for those individuals permitted unescorted access to category 1 or category 2 quantities of radioactive material; (6) coordinate with Local Law Enforcement Agencies (LLEAs) so the LLEAs would be better prepared to respond in an emergency; and (7) conduct coordination activities before shipping category 2 radioactive material, and preplanning and coordination activities before shipping category 1 radioactive material. Licensees are required to promptly report any attempted or actual theft or diversion of the radioactive material. Licensees are required to keep copies of the security plan, procedures, background investigation records, training records, and documentation associated with implementation of the security program. The NRC uses the information required by 10 CFR part 37 to fulfill its responsibilities to respond to, investigate, and correct situations that have the potential to adversely affect public health and safety or the common defense and security.

Dated: November 10, 2022.
For the Nuclear Regulatory Commission.
David C. Cullison,
NRC Clearance Officer, Office of the Chief Information Officer.

[FR Doc. 2022-24996 Filed 11-16-22; 8:45 am]

BILLING CODE 7590-01-P